NATIONAL COUNCIL ON DISABILITY

Sunshine Act Meetings

TIME AND DATES: The Members of the National Council on Disability (NCD) will hold a quarterly meeting on Monday and Tuesday, May 4-5, 2015, in Pittsburgh, Pennsylvania. The meeting on May 4 will begin at 9:30 a.m. and conclude at 5:00 p.m., Eastern Time, and the meeting on May 5 will begin at 9:00 a.m. and conclude at 12:30 p.m., Eastern Time.

PLACE: This meeting will occur in Pittsburgh, Pennsylvania and take place at the University of Pittsburgh at the William Pitt Union in the Kurzman Room, 3959 Fifth Avenue, Pittsburgh, Pennsylvania 15213. Interested parties are welcome to join in person or by phone in a listening-only capacity (other than the period allotted for by-phone public comment on Tuesday, May 5) using the following call-in number: 1-888-438-5524; Conference ID: 9117323; Conference Title: NCD Meeting; Host Name: Jeff Rosen.

MATTERS TO BE CONSIDERED: The Council will release its latest report on transportation; host a “How I Got to Work” symposium of presentations and discussions connecting transportation, asset building, and employment efforts in Pennsylvania; and receive public comment on education-related topics.

AGENDA: The times provided below are approximations for when each agenda item is anticipated to be discussed (all times Eastern):

Monday, May 4

9:30-10:30 a.m.—NCD Transportation Report Release

10:30-11:30 a.m.—Panel: “We Are the ADA Generation”

11:30 a.m.-1:00 p.m.—Break

(1:00-3:00 p.m.—“How I Got to Work” Symposium)

1:00-2:00 p.m.—Panel 1: Transition-age Youth Getting to the Marketplace

2:00-3:00 p.m.—Panel 2: Adults with Disabilities at Work

3:00-3:15 p.m.—Break

3:15-5:00 p.m.—Town Hall: How I Got to Work

5:00 p.m.—Adjournment

Tuesday, May 5

9:00-10:15 a.m.—Call to Order and Council Reports

10:15-10:30 a.m.—Break

10:30 a.m.-12:00 p.m.—Panel: Renewing the Federal Commitment to Students with Disabilities

12:00-12:30 p.m.—Public Comment (Note: Comments received will be limited to those regarding education-related issues)

12:30 p.m.—Adjournment

PUBLIC COMMENT: To better facilitate NCD's public comment, any individual interested in providing public comment is asked to register his or her intent to provide comment in advance by sending an email to PublicComment@ncd.gov with the subject line “Public Comment” with your name, organization, state, and topic of comment included in the body of your email. Full-length written public comments may also be sent to that email address. All emails to register for public comment at the quarterly meeting must be received by Friday, May 1, 2015. Priority will be given to those individuals who are in-person to provide their comments. Those commenters on the phone will be called on according to the list of those registered via email. Due to time constraints, NCD asks all commenters to limit their comments to three minutes.

CONTACT PERSON FOR MORE INFORMATION: Anne Sommers, NCD, 1331 F Street NW., Suite 850, Washington, DC 20004; 202-272-2004 (V), 202-272-2074 (TTY).

ACCOMMODATIONS: A CART streamtext link has been arranged for this teleconference meeting. The web link to access CART on May 4, 2015 is http://www.streamtext.net/text.aspx?event=050415ncd0930am; and on May 5, 2015 is http://www.streamtext.net/text.aspx?event=050515ncd0900am. Those who plan to attend the meeting in-person and require accommodations should notify NCD as soon as possible to allow time to make arrangements. To help reduce exposure to fragrances for those with multiple chemical sensitivities, NCD requests that all those attending the meeting in person refrain from wearing scented personal care products such as perfumes, hairsprays, and deodorants.

Dated: March 17, 2015.
Rebecca Cokley,
Executive Director.

[FR Doc. 2015-06481 Filed 3-17-15; 4:15 pm]

BILLING CODE 8421-03-P